DEPARTMENT OF EDUCATION

National Assessment Governing Board; Meeting; Correction

AGENCY: National Assessment Governing Board, Department of Education.

ACTION: Notice; correction.

SUMMARY: The National Assessment Governing Board (hereafter referred to as the Board or Governing Board) published a document in the Federal Register on Friday, July 11, 2025, announcing the schedule and proposed agenda of the Thursday, July 30, 2025 and Friday, August 1, 2025, quarterly meeting of the Governing Board. The meeting agenda has been revised to reflect the changes below to the Thursday, July 31, 2025, session of the Governing Board meeting.

FOR FURTHER INFORMATION CONTACT: Angela Scott (202) 357-7502.

SUPPLEMENTARY INFORMATION:

Correction

Notice of the hybrid meeting was published in the Federal Register on Friday, July 11, 2025, in FR Doc. 2025-13008 at 90 FR 30893-30895. The meeting notice is being amended to update the supplementary information to revise to reflect the new time for these meetings. On page 30894 in the 1st and 2nd columns make the following correction to the topics and times of the Open and Closed sessions. The Executive Committee originally scheduled to meet in closed session on Thursday, July 31, 2025, from 9:00 a.m. to 10:00 a.m., will meet in open session from 9:00 a.m. to 9:10 a.m. for opening remarks from the Chair and to take action on the nomination of the Governing Board's Vice Chair for 2025-2026. The meeting will transition to closed session from 9:10 a.m. to 10:00 a.m. The Governing Board's Executive Director will provide an update on the Board's ongoing work from 9:10 a.m. to 9:20 a.m., and an update on the NAGB budget from 9:20 a.m. to 9:30 a.m. These briefings must be closed because they pertain to the federal budget and acquisition process. Public disclosure of this confidential information would significantly impede implementation of the NAEP assessment program if conducted in open session. Such matters are protected by exemption 9(B) of section 552b(c) of title 5 of the United States Code. The meeting will continue in closed session from 9:30 a.m. to 10:00 a.m. for a discussion on Preparing for Upcoming Report Card Releases. This session must be closed because it will include discussion of data which cannot be released to the public at this time. Public disclosure of this confidential information would significantly impede implementation of the NAEP assessment program if conducted in open session. Such matters are protected by exemption 9(B) of the Government Sunshine Act, 5 U.S.C. 552. The meeting will end at 10:00 a.m. as originally announced.

Elizabeth Schneider,
Executive Deputy Director, National Assessment Governing Board (NAGB), U. S. Department of Education.

[FR Doc. 2025-14118 Filed 7-25-25; 8:45 am]

BILLING CODE P